DEPARTMENT OF TRANSPORTATION

Federal Highway Administration

Environmental Impact Statement: Worcester and Auburn, Massachusetts

AGENCY: Federal Highway Administration, DOT.

ACTION: Notice of intent.

SUMMARY: The FHWA is issuing this notice to advise the public that an Environmental Impact Statement will be prepared for a proposed highway project in Worcester and Auburn, Massachusetts.

FOR FURTHER INFORMATION CONTACT: Jamie Sikora, Area Engineer, Federal Highway Administration, 55 Broadway, 10th Floor, Cambridge, MA 02142, Telephone: (617) 494-2481; or Michael E. Miller, Project Manager, Environmental Division, Massachusetts Highway Department, 10 Park Plaza, Boston, MA 02116, Telephone: (617) 973-8290.

SUPPLEMENTARY INFORMATION: The FHWA, in cooperation with the Massachusetts Highway Department (MassHighway), will prepare an Environmental Impact Statement (EIS) on a proposal to study project alternatives potentially involving new roadway construction and major improvements to existing roads in the southwestern section of the City of Worcester and in the Town of Auburn, Massachusetts.

The project's goal is the resolution of long-standing accessibility limitations that impact local and regional travel conditions. It is intended that the project will provide improved conditions between Route 9 in the vicinity of Webster Square in Worcester and the Interstate Highway System (I-290 and I-90). It is anticipated that this improved accessibility will also benefit the on-going revitalization of the Worcester Regional Airport and the degree to which the airport can contribute to the regional airport system.

Alternatives under consideration include: (1) Taking no action (No Build); (2) the Webster Street alternative; (3) the Hope Avenue alternative; (4) the Oxford Street alternative; and (5) other feasible and prudent alternatives which may be identified during the course of the EIS. Build alternatives may include limited access highway construction on a new location, or an improvement to existing alignments.

Materials describing the proposed action and soliciting comments will be sent to appropriate Federal, State, and local agencies, and to private organizations and citizens who have previously expressed or are known to have interest in this proposal. A series of public forums will be held, beginning in late March 2000, and continue thru the course of the study. On January 10, 2000 a public scoping meeting was held by the Massachusetts Secretary of Environmental Affairs where comments on the scope of the study were heard, and the Secretary issued a Certificate on the Environmental Notification Form (ENF) and the scope for the Environmental Impact Report (EIR). A public meeting in April 2000 will also provide an opportunity for the public to comment on the scope for the study. Advance public notice of the time and place of this meeting will be given. A formal scoping meeting with the appropriate Federal agencies will also be held during this time frame. Upon completion of the Draft EIS, a Notice of Availability will be published in the Federal Register to provide information on the availability of the document for public and agency review and comment.

To ensure that the full range of issues related to this proposed action are addressed and all significant issues identified, comments, and suggestions are invited from all interest parties. Comments or questions concerning this proposed action and the EIS should be directed to the FHWA at the address provided above.

(Catalog of Federal Domestic Assistance Program Number 20.205, Highway Planning and Construction. The regulations implementing Executive Order 12372 regarding intergovernmental consultation on Federal programs and activities apply to this program).
Issued on: March 3, 2000.
Alexander Almeida,
Project Delivery Team Leader.

[FR Doc. 00-8818 Filed 4-7-00; 8:45 am]

BILLING CODE 4910-22-M